DEPARTMENT OF STATE

[Public Notice 5398]

Culturally Significant Objects Imported for Exhibition Determinations: “Baksy Krater”

AGENCY: Department of State.

ACTION: Notice, correction.

SUMMARY: On April 5, 2006, notice was published on page 17148 of the Federal Register (volume 71, number 65) of determinations made by the Department of State pertaining to the exhibition “Baksy Krater.” The referenced notice is corrected as to the date of the exhibition, which will be at the J. Paul Getty Museum's Villa, Malibu, CA, from on or about June 14, 2006, until on or about September 3, 2007, and at possible additional venues yet to be determined. Public Notice of this correction is ordered to be published in the Federal Register.

FOR FURTHER INFORMATION CONTACT: For further information, including a list of the exhibit objects, contact Richard Lahne, Attorney-Adviser, Office of the Legal Adviser, U.S. Department of State (telephone: (202) 453-8058). The address is U.S. Department of State, SA-44, 301 4th Street, SW., Room 700, Washington, DC 20547-0001.

Dated: April 24, 2006.
Miller Crouch,
Principal Deputy Assistant Secretary for Educational and Cultural Affairs, Department of State.

[FR Doc. E6-6610 Filed 5-1-06; 8:45 am]

BILLING CODE 4710-05-P